Proclamation 10401 of May 20, 2022

National Maritime Day, 2022

By the President of the United States of America

A Proclamation

From sea to shining sea, whether in still or raging waters, America has always been a Nation of maritime travel. Across our 25,000 miles of waterways and over 360 commercial ports, the United States Merchant Marine is integral to our Nation's prosperity. From helping move goods throughout the supply chain to supporting our troops wherever they are deployed, the Merchant Marine plays a vital role in the economic security and defense of our country. On National Maritime Day and every day, we honor the Merchant Marines for their service and sacrifice and acknowledge their crucial role in protecting our Nation's security and commerce.

Today, our Merchant Marine remains inextricably linked to our national and economic security and competitiveness. Merchant mariners' legacy of perseverance and dedication is carried on by today's civilian mariners. As tyranny and violence again cause the tragic loss of innocent lives and senseless destruction in Europe, our merchant mariners have answered the call of duty by crewing vessels of our United States Ready Reserve, moving vital military cargo to help the Ukrainian people in their defense of freedom.

We also salute the remarkable efforts of our entire maritime industry throughout the COVID-19 pandemic. They put the well-being of the American people first, risking their lives to ensure that essential cargoes of medical supplies and personal protective equipment were delivered to those in need across our Nation.

As we continue to build a better America, our Merchant Marine plays a pivotal role in securing our coastal and inland waterways so that they are open to trade. No matter the hardship, mariners provide a smooth passage for America's critical domestic goods and serve as stewards of our Nation's trading gateways with the rest of the world. My Administration continues its unwavering support of the United States Merchant Marine, as well as the Jones Act, which protects the integrity of our domestic maritime industry, supports hundreds of thousands of jobs, and contributes over $150 billion in economic benefits.

We also know that the future success of the vital maritime industry depends on its ability to attract the talent of all Americans and reflect the diversity of the Nation it serves. That is why we are resolved to continue the urgent work of advancing diversity, equity, and inclusion in the ranks of the Merchant Marine and to end sexual assault, sexual harassment, and bullying in the workplace.

Our Nation's merchant mariners serve with honor and integrity each and every day. Today, we recognize their service and sacrifice and recommit ourselves to fulfilling the promises and uplifting the values that they continue to protect.

The Congress, by a joint resolution approved May 20, 1933, has designated May 22 of each year as “National Maritime Day” to commemorate the first transoceanic voyage by a steamship in 1819 by the S.S. Savannah. By this resolution, the Congress has authorized and requested the President to issue annually a proclamation calling for its appropriate observance. I also request that all ships sailing under the American flag dress ship on that day.

NOW, THEREFORE, I, JOSEPH R. BIDEN JR., President of the United States of America, by virtue of the authority vested in me by the Constitution and the laws of the United States, do hereby proclaim May 22, 2022, as National Maritime Day. I call upon all Americans to observe this day and to celebrate the United States Merchant Marine and maritime industry with appropriate programs, ceremonies, and activities.

IN WITNESS WHEREOF, I have hereunto set my hand this twentieth day of May, in the year of our Lord two thousand twenty-two, and of the Independence of the United States of America the two hundred and forty-sixth.

[FR Doc. 2022-11325

Filed 5-23-22; 11:15 am]

Billing code 3395-F2-P